DEPARTMENT OF THE INTERIOR

National Park Service

Notice of Availability of a Final Environmental Impact Statement for the Low Country Gullah Culture Special Resource Study

AGENCY: National Park Service.

ACTION: Notice.

SUMMARY: This notice is being published in accordance with 40 CFR 1506.6. Pursuant to section 102(2)(c) of the National Environmental Policy Act of 1969 the National Park Service announces the availability of a Final Environmental Impact Statement (EIS) for the Low Country Gullah Culture Special Resource Study. The document describes ways that the National Park Service can assist in preserving Gullah culture (more commonly known as Geechee in Georgia and Florida) by outlining four management alternatives for consideration by Congress, and a no-action alternative. The EIS analyzes the environmental impacts of those alternatives considered for the future protection, interpretation, and management of Gullah cultural resources. There have been no substantive changes to the alternatives as presented in the Draft EIS. The study area stretches along the southeastern United States coast roughly from the Cape Fear River in North Carolina to the St. John's River in Florida and approximately 30 miles inland.

ADDRESSES: Copies of the Final EIS are available by contacting John Barrett, National Park Service, 100 Alabama St., SW, Atlanta, GA 30303. An electronic copy of the Final EIS is available on the Internet at http://www.nps.gov/sero/planning/gg_srs/gg_res.htm.

SUPPLEMENTARY INFORMATION: The National Park Service held community and stakeholder meetings to gather advice and feedback on desired outcomes of the study. The meetings assisted the National Park Service in developing alternatives for managing associated cultural and natural resources and creating interpretive and educational programs. The alternatives were presented at community forums in October and November 2002. Responses from the meetings were incorporated into the four alternatives described in the study. There have been no substantive changes to the alternatives as presented in the Draft EIS.

FOR FURTHER INFORMATION CONTACT: John Barrett, 404-562-3124, extension 637.

The responsible official for this Environmental Impact Statement is Patricia A. Hooks, Regional Director, Southeast Region, National Park Service, 100 Alabama Street SW., 1924 Building, Atlanta, Georgia 30303.

Dated: July 1, 2005.
Patricia A. Hooks,
Regional Director, Southeast Region.

[FR Doc. 05-16083 Filed 8-12-05; 8:45 am]

BILLING CODE 4312-52-P